SMALL BUSINESS ADMINISTRATION

[Declaration of Disaster #3368]

State of Illinois; (And a Contiguous County in the State of Indiana)

Cook County and the contiguous Counties of DuPage, Kane, Lake, McHenry, and Will in the State of Illinois, and Lake County in the State of Indiana constitute a disaster area due to damages caused by severe storms and flooding that occurred August 2, 25, and 30, 2001. Applications for loans for physical damage may be filed until the close of business on December 3, 2001 and for economic injury until the close of business on July 5, 2002 at the address listed below or other locally announced locations: U.S. Small Business Administration, Disaster Area 2 Office, One Baltimore Place, Suite 300, Atlanta, GA 30308.

The interest rates are:

| Percent
For Physical Damage:
Homeowners with credit available elsewhere | 6.625
Homeowners without credit available elsewhere | 3.312
Businesses with credit available elsewhere | 8.000
Businesses and non-profit organizations without credit available elsewhere | 4.000
Others (including non-profit organizations) with credit available elsewhere | 7.125
For Economic Injury:
Businesses and small agricultural cooperatives without credit available elsewhere | 4.000

The numbers assigned to this disaster for physical damage are 336811 for Illinois and 336911 for Indiana. For economic injury, the numbers are 9M9100 for Illinois and 9M9200 for Indiana.

(Catalog of Federal Domestic Assistance Program Nos. 59002 and 59008)
Dated: October 4, 2001.
Hector V. Barreto,
Administrator.

[FR Doc. 01-25463 Filed 10-10-01; 8:45 am]

BILLING CODE 8025-01-P